DEPARTMENT OF COMMERCE

National Oceanic and Atmospheric Administration

Agency Information Collection Activities; Submission to the Office of Management and Budget (OMB) for Review and Approval; Comment Request; Applications and Reporting Requirements for Incidental Taking of Marine Mammals by Specified Activities Under the Marine Mammal Protection Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 31st, 2025 during a 60-day comment period. This notice allows for an additional 30 days for public comments.

Agency: National Oceanic and Atmospheric Administration, Commerce.

Title: Applications and Reporting Requirements for Incidental Taking of Marine Mammals by Specified Activities under the Marine Mammal Protection Act.

OMB Control Number: 0648-0151.

Form Number(s): None.

Type of Request: Regular submission [extension and revision of a currently approved information collection].

Number of Respondents: 405.

Average Hours per Response: IHA Application—281 hours; IHA Interim Report—30 hours; IHA Draft Report—140 hours; IHA Final Report—28 hours; LOA Initial Application Preparation—1,200 hours; LOA—Draft Annual Report—225 hours; LOA Final Annual Report—70 hours; LOA Draft 5-year Report—640 hours; LOA Final 5-year report—300 hours; LOA Gulf of America Annual Application—70 hours; Gulf of America Draft Annual Report—140 hours; Gulf of America Final Annual Report—28 hours.

Total Annual Burden Hours: 77,056 hours.

Needs and Uses: This request is for an extension and revision of a currently approved information collection, 0648-0151. The main difference we expect related to this extension is that there will be a smaller number of applicants/respondents than accounted for in the existing OMB Control Number. This revision removes the passive acoustic monitoring (PAM) and protected species observer (PSO) burden estimates. The Office of Protected Resources determined that those activities do not fall under the burden associated with this collection.

The Marine Mammal Protection Act of 1972 (MMPA; 16 U.S.C. 1361 et seq.) prohibits the “take” of marine mammals unless otherwise authorized or exempted by law. Among the provisions that allow for lawful take of marine mammals, sections 101(a)(5)(A) and (D) of the MMPA direct the Secretary of Commerce to allow, upon request, the incidental, but not intentional, taking of small numbers of marine mammals by U.S. citizens who engage in a specified activity (other than commercial fishing), within a specified geographical region if, after notice and opportunity for public comment, we find that the taking will have a negligible impact on the affected species or stock(s) and will not have an immitigable adverse impact on the availability of the species or stock(s) for subsistence uses (where relevant). NMFS also must set forth the permissible methods of taking; other means of effecting the least practicable adverse impact on the species or stock and its habitat (mitigation); and requirements pertaining to the monitoring and reporting of such taking.

Issuance of an incidental take authorization (Authorization) under MMPA section 101(a)(5)(A) (through issuance of a Letter of Authorization following issuance of incidental take regulations) or 101(a)(5)(D) (through issuance of an Incidental Harassment Authorization) requires three sets of information collection: (1) a complete application for an Authorization, as set forth in NMFS' implementing regulations at 50 CFR 216.104, which provides the information necessary to make the required statutory determinations, including estimates of take and an assessment of impacts on the affected species and stocks; (2) information relating to required monitoring; and (3) information related to required reporting. As required by the MMPA, these collections of information enable NMFS to: (1) prospectively evaluate the proposed activity's impact on marine mammals; (2) arrive at the appropriate determinations required by the MMPA and other applicable laws prior to issuing the Authorization; and (3) monitor impacts of activities for which Authorizations have been issued to determine if predictions regarding impacts on marine mammals remain valid.

Affected Public: Business or other for-profit organizations and State, Local, or Tribal/Federal government.

Frequency: Annually.

Respondent's Obligation: Mandatory.

Legal Authority: MMPA; 16 U.S.C. 1361 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0151.

Sheleen Dumas,
Departmental PRA Compliance Officer, Office of the Under Secretary for Economic Affairs, Commerce Department.

[FR Doc. 2025-14104 Filed 7-24-25; 8:45 am]

BILLING CODE 3510-22-P